DEPARTMENT OF DEFENSE

Office of the Secretary

[Docket ID: DoD-2012-OS-0138]

Privacy Act of 1974; System of Records

AGENCY: Office of the Secretary of Defense/Joint Staff, DoD.

ACTION: Notice to amend a System of Records.

SUMMARY: The Office of the Secretary of Defense is amending a system of records notice in its existing inventory of record systems subject to the Privacy Act of 1974 (5 U.S.C. 552a), as amended.

DATES: This proposed action will be effective on December 20, 2012 unless comments are received which result in a contrary determination. Comments will be accepted on or before December 19, 2012.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense systems of records notices subject to the Privacy Act of 1974 (5 U.S.C. 552a), as amended, have been published in the Federal Register and are available from the address in FOR FURTHER INFORMATION CONTACT.

The Office of the Secretary of Defense proposes to amend one system of records notice in its inventory of record systems subject to the Privacy Act of 1974 (5 U.S.C. 552a), as amended. The proposed amendment is not within the purview of subsection (r) of the Privacy Act of 1974 (5 U.S.C. 552a), as amended, which requires the submission of a new or altered system report.

Dated: November 14, 2012.
Aaron Siegel,
Alternate OSD Federal Register Liaison Officer, Department of Defense.

DHRA 06 DoD

System name:

Defense Sexual Assault Incident Database (June 20, 2012, 77 FR 37002).

Changes:

* * * * *

System location:

Delete entry and replace with “Primary location: Washington Headquarters Services, Enterprise Information Technology Support Directorate, WHS-Supported Organizations Division, 2521 South Clark Street, Suite 640, Arlington, VA 22209-2328.

Secondary locations:

The Department of the Army, Sexual Assault Data Management System, Army G-1, DAPE-HR-HF, Room 300 Army Pentagon, Washington, DC 20310-0300.

The Department of the Navy, Consolidated Law Enforcement Operations Center, Naval Criminal Investigative Service, Russell Knox Building, 27130 Telegraph Road, Quantico, VA 22134-2253.

The Department of the Air Force, Investigative Information Management System, Headquarters United States Air Force, Air Force Office of Special Investigations, Russell Knox Building, 27130 Telegraph Road, Quantico, VA 22134-2253.

Decentralized locations include the Services staff and field operating agencies, major commands, installations, and activities. Official mailing addresses are published as an appendix to each Services compilation of systems of records notices.”

* * * * *

System manager(s) and address:

Delete entry and replace with “Sexual Assault Prevention and Response Office, ATTN: Defense Sexual Assault Incident Database Program Manager, 4800 Mark Center Drive, Suite 07G21, Alexandria, VA 22350-8000.”

Notification procedure:

Delete entry and replace with “Individuals seeking to determine whether information about themselves is contained in this system of records should address written inquiries to the appropriate Service office listed below:

The Department of the Army, Human Resources Policy Directorate (HRPD), Sexual Harassment/Assault Response and Prevention (SHARP), 2530 Crystal Drive, 6th Floor, Arlington, VA 22202-3938.

The Department of the Navy, ATTN: Sexual Assault Prevention and Response Program Manager, 716 Sicard Street SE., Suite 1000, Washington Navy Yard, DC 20374-5140.

Headquarters United States Air Force/A1S, ATTN: Sexual Assault Prevention and Response Program Manager, 1040 Air Force Pentagon, Washington, DC 20330-1040.

The National Guard Bureau, Sexual Assault Prevention and Response Office, ATTN: Sexual Assault Prevention and Response Program Manager, 111 South George Mason Drive, AH2 Arlington, VA 22204-1373.

Requests must be signed and include the name, identification number and type of identification, and indicate whether the individual is a victim or alleged perpetrator.”

Record access procedures:

Delete entry and replace with “Individuals seeking access to records about themselves contained in this system of records should address written inquiries to the following as appropriate:

The Department of the Army, HRPD, Sexual Harassment/Assault Response and Prevention (SHARP), 2530 Crystal Drive, 6th Floor, Arlington, VA 22202-3938.

The Department of the Navy, ATTN: Sexual Assault Prevention and Response Program Manager, 716 Sicard Street SE., Suite 1000, Washington Navy Yard, DC 20374-5140.

Headquarters United States Air Force/A1S, ATTN: Sexual Assault Prevention and Response Program Manager, 1040 Air Force Pentagon, Washington, DC 20330-1040.

The National Guard Bureau, Sexual Assault Prevention and Response Office, ATTN: Sexual Assault Prevention and Response Program Manager, 111 South George Mason Drive, AH2, Arlington, VA 22204-1373.

Requests must be signed and include the name, identification number and type of identification, indicate whether the individual is a victim or alleged perpetrator, and the number of this system of records notice.”

* * * * *

[FR Doc. 2012-28013 Filed 11-16-12; 8:45 am]

BILLING CODE 5001-06-P